ENVIRONMENTAL PROTECTION AGENCY

[FRL-7387-4]

Barber Orchard Superfund Site; Notice of Proposed Settlement

AGENCY: Environmental Protection Agency.

ACTION: Notice of Proposed Settlement.

SUMMARY: The United States Environmental Protection Agency is proposing to enter into a prospective purchaser agreement with Ms. Rose Picker, and Mr. James E. Picker to resolve potential EPA claims under sections 106 and 107 of the Comprehensive Environmental Response, Compensation and Liability Act of 1980, as Amended by the Superfund Amendment and Reauthorization Act of 1986 (“CERCLA”), concerning the Barber Orchard Superfund Site (Site) located in Waynesville, Haywood County, North Carolina. EPA will consider public comments on the proposed settlement for thirty (30) days. EPA may withdraw from or modify the proposed settlement should such comments disclose facts or considerations which indicate the proposed settlement is inappropriate, improper or inadequate. Copies of the proposed settlement are available from: Ms. Paula V. Batchelor, U.S. EPA, Region 4, (WMD-CPSB), 61 Forsyth Street, SW, Atlanta, Georgia 30303, (404) 562-8887.

Written comments may be submitted to Ms. Batchelor within 30 calendar days of the date of this publication.

Dated: September 16, 2002.
James T. Miller,
Acting Chief, CERCLA Program Services Branch, Waste Management Division.

[FR Doc. 02-24769 Filed 9-27-02; 8:45 am]

BILLING CODE 6560-50-P